DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the Project Officer indicated below.

Information and Communication Technology Trade Mission

Toronto, Canada, February 18-20, 2003, recruitment closes on January 20, 2003.

For further information contact: Ms. Viktoria Palfi, U.S. Department of Commerce, telephone 416-595-5412, ext. 229, or e-mail to viktoria.palfi @mail.doc.gov.

U.S. Building Products Trade Mission

Toronto and Montreal, Canada, March 4-7, 2003, Recruitment closes on January 24, 2003.

For further information contact: Ms. Rita Patlan, U.S. Department of Commerce, telephone 416-595-5412, ext. 223, or e-mail to rita.patlan@mail.doc.gov.

Textile and Apparel Fabric Trade Mission to Mexico, Honduras, and Guatemala

Guadalajara, San Pedro Sula, and Guatemala City, March 30-April 6, 2003, recruitment closes on February 20, 2003.

For further information contact: Mr. Andrew Gelfuso, U.S. Department of Commerce, telephone 202-482-2043, or e-mail to andrew.gelfuso@mail.doc.gov.

Healthcare Technologies Seminar and Trade Mission

Montreal and Toronto, Canada, April 7-10, 2003, recruitment closes on February 28, 2003.

For further information contact: Mr. Pierre Richer, U.S. Department of Commerce, telephone 514-398-9695, ext. 2261, or e-mail to pierre.richer@mail.doc.gov.

Executive Aerospace Trade Mission to Australia and New Zealand

Canberra, Brisbane, Melbourne, and Auckland, April 27-May 6, 2003, recruitment closes on March 31, 2003.

For further information contact: Mr. Sean McAlister, U.S. Department of Commerce, telephone 202-482-6239, or e-mail to sean.mcalister@mail.doc.gov.

Safety and Security Trade Mission to Brazil

Rio de Janeiro and Sao Paulo, May 19-23, 2003, recruitment closes on March 31, 2003.

For further information contact: Mr. Howard Fleming, U.S. Department of Commerce, telephone 202-482-5163, or e-mail to howard.fleming@mail.doc.gov or in Brazil, Mr. Jim Cunningham, U.S. Consulate, Rio de Janeiro, telephone 55-21-2220-1059, or e-mail to jim.cunningham@mail.doc.gov.

RepCan 2003

Toronto, Canada, June 17-18, 2003, recruitment closes on April 26, 2003.

For further information contact: Ms. Madellon C. Lopes, U.S. Department of Commerce, telephone 416-595-5412, ext. 227, or e-mail to madellon.lopes@mail.doc.gov.

Recruitment and selection of private sector participants for these trade missions will be conducted according to the Statement of Policy Governing Department of Commerce Overseas Trade Missions dated March 3, 1997.

For further information contact Mr. Thomas Nisbet, U.S. Department of Commerce, telephone 202-482-5657, or e-mail Tom_Nisbet@ita.doc.gov.

Dated: December 20, 2002.
Thomas H. Nisbet,
Director, Export Promotion Coordination, Office of Planning, Coordination and Management.

[FR Doc. 02-32691 Filed 12-26-02; 8:45 am]

BILLING CODE 3510-DR-P